DEPARTMENT OF THE INTERIOR

Fish and Wildlife Service

Information Collection To Be Submitted to the Office of Management and Budget (OMB) for Approval Under the Paperwork Reduction Act; Aquatic Animal Health Inspection Requests

AGENCY: Fish and Wildlife Service, Interior.

ACTION: Notice; request for comments.

SUMMARY: The U.S. Fish and Wildlife Service will submit the collection of information listed below to OMB for approval under the provisions of the Paperwork Reduction Act. A description of the information collection requirement is included in this notice. If you wish to obtain copies of the proposed information collection requirement, related forms, or explanatory material, contact the Service Information Collection Officer at the address listed below.

DATES: Submit comments on or before May 10, 2004.

ADDRESSES: Send your comments on the requirement to Anissa Craghead, Information Collection Clearance Officer, U.S. Fish and Wildlife Service, MS 222-ARLSQ, 4401 N. Fairfax Drive, Arlington, VA 22203; (703) 358-2269 (fax); or Anissa_Craghead@fws.gov (e-mail).

FOR FURTHER INFORMATION CONTACT: To request a copy of the information collection request, explanatory information, or related forms, contact Anissa Craghead by phone at (703) 358-2445 or by e-mail at Anissa_Craghead@fws.gov.

SUPPLEMENTARY INFORMATION: The Office of Management and Budget (OMB) regulations at 5 CFR 1320, which implement provisions of the Paperwork Reduction Act of 1995 (44 U.S.C. 3501 et seq.), require that interested parties and affected agencies have an opportunity to comment on information collection and recordkeeping activities (see CFR 1320.8(d)). The U.S. Fish and Wildlife Service (we, or the Service) plans to submit a request to OMB for approval of a collection of information related to fish health evaluations. We are requesting a 3-year term of approval for these collection activities.

Federal agencies may not conduct or sponsor, and a person is not required to respond to, a collection of information unless it displays a currently valid OMB control number.

The Fish and Wildlife Act of 1956 (16 U.S.C. 742f) requires the Department of the Interior to take steps “required for the development, advancement, management, conservation, and protection of fishery resources.” In addition, the Endangered Species Act of 1973 (16 U.S.C. 1531-1544), the Wildlife Coordination Act (16 U.S.C. 661-666c), and the Anadromous Fish Conservation Act (16 U.S.C. 757a-757g) each authorize the Department of the Interior to enter into cooperative agreements with stakeholders to protect and conserve fishery resources.

Aquatic animal health data collected on both hatchery-raised and wild animals is essential to making good management decisions. The data allows Service and other managers and biologists to determine areas in the environment where aquatic animal pathogens pose a high risk to aquatic animal resources. The information is also used to develop alternative management techniques to help prevent the potential negative impacts of aquatic animal pathogens on animals reintroduced into the environment. Similarly, the determination of health status of wild populations and/or hatchery-raised populations is essential to determining appropriate stocking locations. Health inspections of aquatic animals, prior to movement to or from hatchery facilities, further allow Service managers and biologists to prevent the introduction of pathogenic organisms to areas free of such organisms, thereby helping to ensure the health and well-being of our aquatic animal resources.

We have conducted aquatic animal health inspections for over 25 years and wild fish health surveys for over 5 years. In order to effectively carry out these investigations, it is essential that we gather information on the animals being tested and the samples taken from that group of animals, which are tracked throughout the process. To gather this information, we have used a National Wild Fish Health Survey Submission form and an Aquatic Animal Health Inspection Request form. These forms are completed by our stakeholders and partners when submitting samples for aquatic animal health evaluations. These forms identify the source of the samples submitted and allow laboratory personnel to identify and track the samples and to provide accurate results. The forms that we use to collect this information were not approved by the Office of Management and Budget (OMB). We are initiating the process to request OMB approval of these forms through this publication and to request public comment on this information collection.

This collection helped, and would help, us gather information on the source and identity of samples submitted for aquatic animal health investigations. Optional data requested on the National Wild Fish Health Survey form can also be used to research the epidemiology of various health issues and improve managers' and biologists' ability to make informed decisions with regard to resource management as it relates to aquatic animal health. The information collection is voluntary; it is conducted only after an individual requests that the Service carry out an aquatic animal health investigation.

We used, and would use, two forms to collect this information. They are described below.

Title: National Wild Fish Health Survey—Submission Form.

OMB Control Number: 1018-xxxx.

Form number: 3-2277.

Frequency of Collection: On occasion, as requested by the submitting individual or entity.

Description of Respondents: State resource agencies, conservation groups, and other individuals seeking aquatic animal health investigations on samples obtained from the wild.

Total Annual Responses: Approximately 1,000 (estimate based on previous collection activities).

Total Annual Burden Hours: 250 hours. We estimate the reporting burden at fifteen minutes for each of the total 1,000 submissions, or approximately 250 hours total.

Title: Aquatic Animal Health Inspection Request.

OMB Control Number: 1018-xxxx.

Form number: 3-225.

Frequency of Collection: On occasion, as requested by the submitting individual or entity.

Description of Respondents: State resource agencies and other individuals seeking aquatic animal health investigations on samples obtained from captive animals.

Total Annual Responses: Approximately 25 (estimate based on previous collection activities).

Total Annual Burden Hours: 4 hours. We estimate the reporting burden at ten minutes for each of the total 25 submissions, or approximately 4 hours total.

We invite comments on this proposed information collection on the following: (1) Whether the collection of information is necessary for the proper performance of the function of the agency, including whether the information will have practical utility; (2) the accuracy of our estimate of the burden of the collection of information; (3) ways to enhance the quality, utility, and clarity of the information to be collected; and (4) ways to minimize the burden of the collection on respondents.

Dated: March 1, 2004.
Anissa Craghead,
Information Collection Officer, Fish and Wildlife Service.

[FR Doc. 04-5449 Filed 3-10-04; 8:45 am]

BILLING CODE 4310-55-P